NUCLEAR REGULATORY COMMISSION

[Docket No. 99902056; NRC-2024-0146]

Tennessee Valley Authority; Clinch River Nuclear Site; Environmental Assessment and Finding of No Significant Impact

AGENCY: Nuclear Regulatory Commission.

ACTION: Notice; issuance.

SUMMARY: The U.S. Nuclear Regulatory Commission (NRC) is issuing an environmental assessment (EA) and finding of no significant impact (FONSI) for the Tennessee Valley Authority (TVA) exemption request for the Clinch River Nuclear (CRN) Site. Specifically, TVA is requesting an exemption, pursuant to NRC regulations, to allow the conduct of certain excavation support activities at the CRN Site prior to the issuance of a construction permit, which are otherwise not permitted by NRC regulations.

DATES: The EA and FONSI referenced in this document are available on November 15, 2024.

ADDRESSES: Please refer to Docket ID NRC-2024-0146 when contacting the NRC about the availability of information regarding this document. You may obtain publicly available information related to this document using any of the following methods:

• Federal Rulemaking Website: Go to https://www.regulations.gov and search for Docket ID NRC-2024-0146. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Joseph Giacinto, Office of Nuclear Material Safety and Safeguards, U.S. Nuclear Regulatory Commission, Washington, DC 20555-0001; telephone: 301-415-0714; email: Joseph.Giacinto@nrc.gov.

SUPPLEMENTARY INFORMATION:

I. Introduction

By application dated November 30, 2023, (ADAMS Accession No. ML23335A100), TVA submitted a request for an exemption from section 50.10 of title 10 of the Code of Federal Regulations (10 CFR) “License required; limited work authorization.” By letter dated January 31, 2024 (ADAMS Accession No. ML24009A168), the NRC staff informed TVA of its determination that the TVA exemption request was acceptable for docketing under Docket No. 99902056.

The NRC has prepared an EA (ADAMS Accession No. ML24312A321) as part of its review of the exemption request in accordance with the requirements of 10 CFR 51.21, “Criteria for and identification of licensing and regulatory actions requiring environmental assessments.” Based on the results of the EA, the NRC has determined not to prepare an environmental impact statement (EIS) and is issuing a FONSI pursuant to 10 CFR 51.31.

In accordance with 36 CFR 800.8(c), the NRC used the National Environmental Policy Act of 1969, as amended (NEPA) process to comply with section 106 of the National Historic Preservation Act of 1966, as amended (NHPA), in lieu of the procedures set forth in 36 CFR 800.3 through 800.6.

II. Discussion

The proposed action is for the NRC to issue an exemption authorizing the early excavation activities prior to the submittal of the construction permit (CP) application. The NRC issuance of the exemption would allow TVA to install and leave in place components of the initial ground support system for the reactor building (RB) excavation, such as rock bolts to secure unstable rock blocks, wire mesh and non-structural sprayed concrete linings to stabilize exposed rock walls, horizontal gravity drains to manage groundwater, and pressurized grout to seal water entry. The initial ground support system could also include steel soldier beams with timber lagging, rock bolts to secure soldier beams, and reinforced concrete compression rings to support the soldier beams. The exemption is needed due to the timing of initial ground support system installation, which serves no function with respect to structural RB support or radiological health or safety but is needed for construction worker safety during RB excavation. If excavation for the RB is delayed until after the issuance of the CP, the construction schedule and commercial operation could undergo a delay of 12-24 months. TVA anticipates that the cost of any delay of the commercial operation of Clinch River Nuclear Unit 1 would be substantial.

In the EA, the NRC staff assessed the potential direct and indirect environmental impacts from the proposed action associated with the following relevant resource areas: land use and visual resources, air quality and noise, hydrogeology and water resources, ecological resources, historic and cultural resources, socioeconomics and environmental justice, human health, and nonradiological waste management. The NRC staff determined that the environmental impacts of the proposed action would be SMALL for each potentially affected environmental resource, meaning that the environmental effects are not detectable or are so minor that they will neither destabilize nor noticeably alter any important attribute of the resource.

The NRC staff identified alternatives to the proposed action and the environmental impacts of the alternatives, as appropriate. The NRC staff determined that there are no alternatives that meet the need for the proposed action and that are environmentally preferrable to the proposed action.

III. Finding of No Significant Impact

The proposed action before the NRC is whether to issue the exemption request authorizing early excavation at the CRN Site. As required by 10 CFR 51.21, the NRC prepared the EA. This FONSI incorporates by reference the EA summarized in Section II of this notice. Based on the NRC staff's determination in the EA that the environmental impacts would be SMALL for each potentially affected resource area, the NRC staff has determined that the proposed action will not have a significant impact on the quality of the human environment. Accordingly, the NRC staff has made a determination that the preparation of an EIS is not required for the proposed action and that a FONSI is warranted.

Dated: November 8, 2024.
For the Nuclear Regulatory Commission.
Daniel Barnhurst,
Chief, Environmental Project Management, Branch 3, Division of Rulemaking, Environmental, and Financial Support, Office of Nuclear Material Safety, and Safeguards.

[FR Doc. 2024-26540 Filed 11-14-24; 8:45 am]

BILLING CODE 7590-01-P